DEPARTMENT OF HEALTH AND HUMAN SERVICES

Centers for Disease Control and Prevention

[30Day-20-19BLE]

Agency Forms Undergoing Paperwork Reduction Act Review

In accordance with the Paperwork Reduction Act of 1995, the Centers for Disease Control and Prevention (CDC) has submitted the information collection request titled Templates for Extramural Data Management Plans to the Office of Management and Budget (OMB) for review and approval. CDC previously published a “Proposed Data Collection Submitted for Public Comment and Recommendations” notice on [insert August 8, 2019] to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Templates for Extramural Data Management Plans—New—National Center for Chronic Disease Prevention and Health Promotion (NCCDPHP), Centers for Disease Control and Prevention (CDC).

Background and Brief Description

Data management plans (DMPs) are required of entities using CDC funds to collect or generate public health data. DMPs will be submitted to CDC by grant and cooperative agreement awardees for assessment to verify that they are concordant with CDC's data sharing policy. Currently, CDC does not have a standard template for a DMP. DMPs can be a checklist, paragraph, or any other format. Due to this fact, CDC has had to refer extramural applicants and recipients to external websites for examples on how to construct a DMP. This new ICR is being developed by CDC's National Center for Chronic Disease Prevention and Health Promotion (NCCDPHP) to create standardized templates for DMPs so that they will be easier to create, easier to review, better ensure compliance with CDC's requirements, and increase the likelihood of first-time approval by project officers. DMPs will be submitted as standalone sections of the NOFO and annual continuation applications; revisions can also be submitted by the awardees whenever needed.

CDC requests approval for 1033 burden hours annually. There are no costs to respondents other than their time.

Estimated Annualized Burden Hours
Type of respondents | Form name | Number of respondents | Number of responses per respondent | Average burden per response (in hours)
Applicants and Awards Recipients | DMP Template | 1033 | 1 | 60/60

Jeffrey M. Zirger,
Lead, Information Collection Review Office, Office of Scientific Integrity, Office of Science, Centers for Disease Control and Prevention.

[FR Doc. 2020-01856 Filed 1-30-20; 8:45 am]

BILLING CODE 4163-18-P